DEPARTMENT OF COMMERCE

International Trade Administration

[A-475-703]

Granular Polytetrafluoroethylene Resin From Italy: Notice of Rescission of Antidumping Duty Administrative Review

AGENCY: Import Administration, International Trade Administration, Department of Commerce.

ACTION: Notice of rescission of antidumping duty administrative review.

EFFECTIVE DATE: November 12, 2003.

SUMMARY: On September 30, 2003, the Department of Commerce (the Department) published in the Federal Register (68 FR 56262) a notice announcing the initiation of an administrative review of the antidumping duty order on granular polytetrafluoroethylene resin from Italy, covering the period August 1, 2002, through July 31, 2003. The review was requested by Solvay Solexis, Inc. and Solexis America Inc. (collectively Solvay), an Italian producer of the subject merchandise under review and its United States subsidiary. We are now rescinding this review as a result of Solvay's withdrawal of its request for an administrative review.

FOR FURTHER INFORMATION CONTACT: Keith Nickerson or Carol Henninger, at (202) 482-3813 or (202) 482-3003, respectively, AD/CVD Enforcement Office 5, Group II, Import Administration, International Trade Administration, U.S. Department of Commerce, 14th Street & Constitution Avenue, NW., Washington, DC 20230.

SUPPLEMENTARY INFORMATION:

Background

In accordance with 19 CFR 351.213(b), on August 29, 2003, Solvay requested an administrative review of the antidumping duty order on granular polytetrafluoroethylene resin from Italy. On September 30, 2003, in accordance with 19 CFR 351.221(c)(1)(i), we initiated an administrative review of this order for the period August 1, 2002, through July 31, 2003 (68 FR 56262). Solvay withdrew its request for this review on October 24, 2003. See Letter from Maureen Rosch, representative of Solvay, to the Department (October 24, 2003).

Rescission of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. Solvay withdrew its request within the 90-day period. Accordingly, we are rescinding this review. The Department will issue appropriate assessment instructions to the U.S. Customs and Border Protection within 15 days of publication of this notice.

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of an APO is a sanctionable violation.

This notice is issued and published in accordance with 19 CFR 351.213(d)(4) and section 777(i)(1) of the Tariff Act of 1930, as amended.

Dated: November 5, 2003.
Holly A. Kuga,
Acting Deputy Assistant Secretary for Import Administration.

[FR Doc. 03-28339 Filed 11-10-03; 8:45 am]

BILLING CODE 3510-DS-P